DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: (Face-to-face meeting). July 24, 2006, 8:30 a.m. to 5 p.m. July 25, 2006, 8:30 a.m. to 3 p.m.

Place: Doubletree Hotel, 1750 Rockville Pike, Rockville, MD 20852, Telephone: 301-468-1100.

Status: The meeting will be open to the public.

Purpose: The Committee will be focusing on interdisciplinary training and education, specifically examining evidence-based models/research as regards interdisciplinary training. In addition, the Committee will be looking at the potential impact of interdisciplinary training programs on health service delivery networks including how such training programs address the needs of various underserved populations. Included in the meeting will be discussions of community-based training initiatives. The meeting will allow the Committee to formulate appropriate recommendations for the Secretary and Congress regarding interdisciplinary training, and community-based training.

Agenda: The agenda includes an overview of the Committee's general business activities. The Committee will hear presentations from experts on interdisciplinary training and community-based training, and will discuss best practices to formulate recommendations for the Secretary and the Congress.

Agenda items are subject to change as priorities indicate.

Supplementary Information: This meeting notice is delayed due to the resolution of fiscal year 2006 budget issues and the status of Committee membership.

For Further Information Contact: Anyone requesting information regarding the Committee should contact Lou Coccodrilli, Federal Official for the ACICBL, and Acting Director of the Division of State, Community & Public Health, Bureau of Health Professions, Health Resources and Services Administration, 5600 Fishers Lane, Maryland 20857; Telephone (301) 443-7774.

Dated: July 17, 2006.
Cheryl R. Dammons,
Director, Division of Policy Review and Coordination.

[FR Doc. 06-6382 Filed 7-17-06; 3:39 pm]

BILLING CODE 4165-15-P